GOVERNMENT PRINTING OFFICE

Depository Library Council to the Public Printer; Meeting

The Depository Library Council to the Public Printer will meet (due to the Government shutdown in October the meeting has been rescheduled) on Wednesday, April 30, 2014, through Friday, May 2, 2014, from 8:30 a.m. to 5:30 p.m., in Washington, DC. The meeting will be held at the U.S. Government Printing Office, located at 732 North Capitol Street NW., Washington, DC. The purpose of this meeting is to discuss the Federal Depository Library Program. All sessions are open to the public. The U.S. Government Printing Office is in compliance with the requirements of Title III of the Americans With Disabilities Act and meets all Fire Safety Act regulations.

Davita Vance-Cooks,
Public Printer of the United States.

[FR Doc. 2014-05367 Filed 3-11-14; 8:45 am]

BILLING CODE 1520-01-P